DEPARTMENT OF ENERGY

Federal Energy Regulatory Commission

[Docket No. EC01-11-000, et al.]

El Paso Generating, L.L.C., et al.; Electric Rate and Corporate Regulation Filings

November 2, 2000.

Take notice that the following filings have been made with the Commission:

1. El Paso Generating, L.L.C., El Paso Energy West Georgia, L.L.C., West Georgia Generating Company, L.P., Mesquite Investors, L.L.C.

[Docket No. EC01-11-000]

Take notice that on October 25, 2000, pursuant to Section 203 of the Federal Power Act, 16 U.S.C. § 824b (1998) and Part 33 of the Commission's Regulations, El Paso Generating, L.L.C., El Paso Energy West Georgia, L.L.C., West Georgia Generating Company, L.P. (West Georgia LP), and Mesquite Investors, L.L.C. (Mesquite) (collectively, Applicants) filed an application for Commission authorization for West Georgia LP to convert its form of business organization to a limited liability company, and for the transfer of ownership interests in the new limited liability company to Mesquite.

Comment date: November 15, 2000, in accordance with Standard Paragraph E at the end of this notice.

2. Merchant Energy Group of the Americas, Inc.

[Docket No. EC01-12-000]

Take notice that on October 26, 2000, Merchant Energy Group of the Americas, Inc. (MEGA) tendered for filing an application pursuant to Section 203 of the Federal Power Act for authorization of a transaction whereby MEGA will assign certain of its wholesale power sales agreements and associated books and records to AES Eastern Energy, L.P. MEGA requests confidential treatment of Exhibit H of the filing.

Comment date: November 16, 2000, in accordance with Standard Paragraph E at the end of this notice.

3. Alliance for Municipal Power

[Docket No. EL00-116-000]

Take notice that on October 23, 2000, Alliance for Municipal Power (AMP or the Alliance), tendered for filing a Petition for Exemption in Lieu of Fee pursuant to AMP's September 29, 2000, Petition for Declaratory Order filed with the Commission in the above-referenced docket. Take further notice that AMP's Petition for Declaratory Order requests the Commission to determine that it, not the New York Public Service Commission, is the proper forum to establish the extent of AMP's stranded cost obligation to Niagara Mohawk Power Company (NMPC) and also to determine that NMPC has no reasonable expectation to continue serving AMP communities at retail.

Comment date: November 22, 2000, in accordance with Standard Paragraph E at the end of this notice.

4. South Carolina Electric & Gas Company

[Docket No. ES01-9-000]

Take notice that on October 27, 2000, South Carolina Electric & Gas Company submitted an application pursuant to section 204 of the Federal Power Act seeking authorization to issue short-term unsecured promissory notes in the form of bank loans and commercial paper in an amount not to exceed $250 million at one time during the period January 1, 2001, through December 31, 2002.

Comment date: November 22, 2000, in accordance with Standard Paragraph E at the end of this notice.

5. MidAmerican Energy Company

[Docket No. ER01-266-000]

Take notice that on October 30, 2000, MidAmerican Energy Company (MidAmerican) filed with the Commission a Notice of Cancellation pursuant to Section 35.15 of the Commission's regulations.

MidAmerican requests that the following rate schedule be canceled effective as of December 31, 2000:

1. Firm Power Purchase Agreement dated September 18, 1987 between Iowa Public Service Company (a predecessor company of MidAmerican) and Missouri Joint Municipal Electric Utility Commission. This Agreement has been designated as MidAmerican Rate Schedule No. 74.

MidAmerican has mailed a copy of this filing to Missouri Joint Commission, the Iowa Utilities Board, the Illinois Commerce Commission and the South Dakota Public Utilities Commission.

Comment date: November 20, 2000, in accordance with Standard Paragraph E at the end of this notice.

6. Southwest Power Pool, Inc.

[Docket No. ER01-267-000]

Take notice that on October 30, 2000, Southwest Power Pool, Inc. (SPP) tendered for filing a service agreement for Network Integration Transmission Service with Grand River Dam Authority (Network Customer).

SPP seeks an effective date of October 1, 2000 for the service agreement.

A copy of this filing was served on the Network Customer.

Comment date: November 20, 2000, in accordance with Standard Paragraph E at the end of this notice.

7. Ameren Energy Generating Company

[Docket No. ER01-268-000]

Take notice that on October 30, 2000, Ameren Energy Generating Company, pursuant to section 205 of the Federal Power Act, 16 U.S.C. § 824d, and the market-based rate authority provided to it by the Commission, submitted for filing a long-term lease agreement with Ameren Energy Development Company.

Comment date: November 20, 2000, in accordance with Standard Paragraph E at the end of this notice.

8. Duke Energy South Bay LLC

[Docket No. ER01-269-000]

Take notice that on October 30, 2000, Duke Energy South Bay LLC tendered for filing revised tariff sheets in the above-referenced docket to restate schedules to its Must-Run Schedule.

Comment date: November 20, 2000, in accordance with Standard Paragraph E at the end of this notice.

9. Duke Energy Oakland LLC

[Docket No. ER01-270-000]

Take notice that on October 30, 2000, Duke Energy Oakland LLC tendered for filing revised tariff sheets in the above-referenced docket to restate schedules to its Must-Run Schedule.

Comment date: November 20, 2000, in accordance with Standard Paragraph E at the end of this notice.

10. MidAmerican Energy Company

[Docket No. ER01-271-000]

Take notice that on October 30, 2000, MidAmerican Energy Company (MidAmerican) filed with the Commission a Notice of Cancellation pursuant to Section 35.15 of the Commission's regulations.

MidAmerican requests that the following rate schedule be canceled effective as of December 31, 2000:

1. Firm Power Interchange Service Agreement dated November 15, 1985, and First Amendment dated November 21, 1986, between Iowa Public Service Company (a predecessor company of MidAmerican) and La Porte City Municipal Utilities. This Agreement has been designated as MidAmerican Rate Schedule No. 86.

MidAmerican has mailed a copy of this filing to La Porte City, the Iowa Utilities Board, the Illinois Commerce Commission and the South Dakota Public Utilities commission.

Comment date: November 20, 2000, in accordance with Standard Paragraph E at the end of this notice.

11. Commonwealth Edison Company

[Docket No. ER01-272-000]

Take notice that on October 30, 2000, Commonwealth Edison Company (ComEd) submitted for filing two amended Network Service Agreements (NSA) between ComEd and Unicom Energy, Inc. (UEI), and between ComEd and NewEnergy Midwest, L.L.C. (NEMW). The NSAs extend the termination date previously filed with UEI and NEMW on October 29, 1999 in Docket No. ER00-358-000. The NSAs governs ComEd's provision of network service to serve retail load under the terms of ComEd's Open Access Transmission Tariff (OATT).

ComEd requests an effective date of October 1, 2000 for NSAs, and therefore ComEd seeks waiver of the Commission's notice requirements.

Comment date: November 20, 2000, in accordance with Standard Paragraph E at the end of this notice.

12. Commonwealth Edison Company

[Docket No. ER01-273-000]

Take notice that on October 30, 2000, Commonwealth Edison Company (ComEd) submitted for filing an executed Dynamic Scheduling Agreement (DSA) with Alliant Energy Corporate Services, Inc. (Alliant).

ComEd requests an effective date of October 1, 2000 for the DSA to coincide with the effective date of the Firm Transmission Service Agreement with Alliant that the DSA supplements and accordingly seeks waiver of the Commission's notice requirements. ComEd has served a copy of this filing on Alliant.

Comment date: November 20, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-28751 Filed 11-8-00; 8:45 am]

BILLING CODE 6717-01-P